DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, December 12, from 9 a.m. to 5 p.m. and Wednesday, December 13, from 9 a.m. to 11 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The theme of this meeting is NIST's role in the international arena in ten years. The agenda will include an update on NIST, an introduction and overview of NIST's international activities, and other presentations that focus on the importance of NIST as a National Metrology Institute, NIST's evolving role for traceability of chemical and biological measurements, NIST's role in documentary standards, NIST's interactions with the American National Standards Institute and the International Organization for Standardization, and NIST's activities in Iraq. Two laboratory tours also will be featured. The meeting will conclude with an extended discussion on effectively implementing the NIST mission in a growing international marketplace. The agenda may change to accommodate Committee business. The final agenda will be posted on the NIST Web site at http://www.nist.gov/director/vcat/agenda.htm.

DATES: The meeting will convene on December 12 at 9 a.m. and will adjourn on December 13, 2006, at 11 a.m.

ADDRESSES: The meeting will be held in the Employees Lounge, Administration Building, at NIST, Gaithersburg, Maryland. All visitors to the NIST site will have to pre-register to be admitted. Please submit your name, time of arrival, e-mail address and phone number to Carolyn Peters no later than Thursday, December 7, and she will provide you with instructions for admittance. Mrs. Peter's e-mail address is carolyn.peters@nist.gov and her phone number is (301) 975-5607.

FOR FURTHER INFORMATION CONTACT: Carolyn Peters, Visiting Committee on Advanced Technology, National Institute of Standards and Technology, Gaithersburg, Maryland 20899-1000, telephone number (301) 975-5607.

Dated: November 21, 2006.
James E. Hill,
Acting Deputy Director.

[FR Doc. E6-20105 Filed 11-27-06; 8:45 am]

BILLING CODE 3510-13-P